DEPARTMENT OF EDUCATION

Notice of Proposed Information Collection Requests

Correction

In notice document 02-28741 appearing on page 68842 in the issue of Wednesday, November 13, 2002, make the following correction:

On page 68842, in the second column, in the DATES ÿ7E section, in the second line, “January 13, 2002” should read “January 13, 2003”.

[FR Doc. C2-28741 Filed 11-18-02; 8:45 am]

BILLING CODE 1505-01-D

DEPARTMENT OF ENERGY

Federal Energy Regulatory Commission

Notice of Application Accepted for Filing and Soliciting Comments, Motions to Intervene, and Protests

October 24, 2002.

Correction

In notice document 02-27939 beginning on page 67176 in the issue of Monday, November 4, 2002 make the following correction:

On page 67176, in the third column, the docket number was removed, the heading is corrected to read as set forth above.

[FR Doc. C2-27939 Filed 11-18-02; 8:45 am]

BILLING CODE 1505-01-D

DEPARTMENT OF HOUSING AND URBAN DEVELOPMENT

[Docket No. FR-4734-N-66]

Notice of Submission of Proposed Information Collection to OMB: Requirements for Notification of Lead-Based Paint Hazards in Federally-Owned Residential Properties and Housing Receiving Federal Assistance

Correction

In notice document 02-28289 beginning on page 67860 in the issue of Thursday, November 7, 2002, make the following correction:

On page 67860, in the third column, under the ADDRESSES heading, in the fifth line, the E-mail address is corrected to read as set forth as set below, “Lauren_Wittenberg@omb.eop.gov.”

[FR Doc. C2-28289 Filed 11-18-02; 8:45 am]

BILLING CODE 1505-01-D

DEPARTMENT OF TRANSPORTATION

Federal Aviation Administration

14 CFR Part 39

[Docket No. 2002-CE-25-AD; Amendment 39-12905; AD 2002-20-08]

RIN 2120-AA64

Airworthiness Directives; British Aerospace Jetstream Model 3201 Airplanes

Correction

In rule document 02-26370 beginning on page 64792 in the issue of Tuesday, October 22, 2002, make the following corrections:

§ 39.13 [Corrected]

1. On page 64794, in § 39.13, in the table, in the second column, in the first entry, in the third and fourth lines, “June 23, 2002” should read “June 23, 2000”.

2. On the same page, in the same section, in the same table, in the same column, in the same entry, in the fourth and fifth lines, “200-09-13” should read, “2000-09-13”.

[FR Doc. C2-26370 Filed 11-18-02; 8:45 am]

BILLING CODE 1505-01-D